DEPARTMENT OF ENERGY

Federal Energy Regulatory Commission

[Project No. 12107-003-MT; Flint Creek Hydroelectric Project]

Granite County, MT; Notice of Availability of Environmental Assessment

December 2, 2009.

In accordance with the National Environmental Policy Act of 1969 and the Federal Energy Regulatory Commission's regulations, 18 CFR part 380 (Order No. 486, 52 FR 47897), the Office of Energy Projects has reviewed the application for an original license (Major Project) for the Flint Creek Hydroelectric Project (project), and has prepared an Environmental Assessment (EA). The proposed project would be located on Flint Creek at the existing Georgetown Lake Dam, in the Upper Clark Fork River basin near Philipsburg, in Granite County and Deer Lodge County, Montana. The proposed project would occupy a total of 2,857.5 acres, of which 1,243.3 acres (1,243 reservoir acres and 0.3 land acre) are within the Beaverhead-Deer Lodge National Forest, administered by the U.S. Forest Service (Forest Service); 1,605.4 reservoir acres owned by Granite County, Montana; and 8.8 acres of private lands.

The EA contains the staff's analysis of the potential environmental impacts of the project and concludes that licensing the project would not constitute a major Federal action that would significantly affect the quality of the human environment.

A copy of the EA is available for review at the Commission in the Public Reference Room or may be viewed on the Commission's Web site at http://www.ferc.gov using the “eLibrary” link. Enter the docket number excluding the last three digits in the docket (P-12107), number field to access the document. For assistance, contact FERC Online Support at FERCOnlineSupport@ferc.gov or toll-free at (866) 208-3676, or for TTY, (202) 502-8659.

You may also register online at http://www.ferc.gov/esubscribenow.htm to be notified via email of new filings and issuances related to this or other pending projects. For assistance, contact FERC Online Support at FERCOnlineSupport@ferc.gov or toll-free at 1-866-208-3676, or for TTY, (202) 502-8659.

Any Comments should be filed within 30 days from the date of this notice and should be addressed to: Kimberly D. Bose, Secretary, Federal Energy Regulatory Commission, 888 First Street, NE., Washington, DC 20426. Please affix Project No. 12107-003, to all comments. Comments may be filed electronically via the Internet in lieu of paper. The Commission strongly encourages electronic filings. See 18 CFR 385.2001(a)(1)(iii) and the instructions on the Commissions Web site (http://www.ferc.gov) under the “e-Filing” link. For a simpler method of submitting text-only comments, click on “Quick Comment.”

Please contact Gaylord Hoisington by telephone at (202) 502-6032 or by e-mail at gaylord.hoisington@ferc.gov if you have any questions.

Kimberly D. Bose,
Secretary.

[FR Doc. E9-29281 Filed 12-8-09; 8:45 am]

BILLING CODE 6717-01-P